NUCLEAR REGULATORY COMMISSION

10 CFR Part 72

[NRC-2019-0224]

RIN 3150-AK40

List of Approved Spent Fuel Storage Casks: TN Americas LLC NUHOMS® EOS Dry Spent Fuel Storage System, Certificate of Compliance No. 1042, Amendment No. 1

AGENCY: Nuclear Regulatory Commission.

ACTION: Direct final rule; confirmation of effective date.

SUMMARY: The U.S. Nuclear Regulatory Commission (NRC) is confirming the effective date of June 17, 2020, for the direct final rule that was published in the Federal Register on April 3, 2020. The direct final rule amends the NRC's spent fuel storage regulations by revising the TN Americas LLC NUHOMS® EOS Dry Spent Fuel Storage System listing within the “List of approved spent fuel storage casks” to include Amendment No. 1 to Certificate of Compliance No. 1042. Amendment No. 1 makes the following changes: Adds a new basket type (Type 4) to allow for the loading of intact, damaged, or failed fuel; adds another new basket type (Type 5); accepts fuel assemblies with a minimum two-year cooling time, in selected locations within the basket; and adds the NUHOMS® MATRIX design as an alternative to the EOS horizontal storage module design for the storage of spent fuel. Amendment No. 1 also makes other additional revisions to the certificate of compliance and the technical specifications for consistency and clarity.

DATES:

Effective date: The effective date of June 17, 2020, for the direct final rule published April 3, 2020 (85 FR 18857), is confirmed.

ADDRESSES: Please refer to Docket ID NRC-2019-0224 when contacting the NRC about the availability of information for this action. You may obtain publicly-available information related to this action by any of the following methods:

• Federal Rulemaking Website: Go to https://www.regulations.gov and search for Docket ID NRC-2019-0224. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate, the proposed changes to the technical specifications, and preliminary safety evaluation report are available in ADAMS under Accession No. ML19290H600. The final amendment to the certificate, final changes to the technical specifications, and final safety evaluation report can also be viewed in ADAMS under Accession No. ML20136A048.

• Attention: The Public Document Room (PDR), where you may examine and order copies of public documents, is currently closed. You may submit your request to the PDR via email at PDR.Resource@nrc.gov or call 1-800-397-4209 between 8:00 a.m. and 4:00 p.m. (EST), Monday through Friday, except Federal holidays.

FOR FURTHER INFORMATION CONTACT: Christian Jacobs, Office of Nuclear Material Safety and Safeguards; telephone: 301-415-6825; email: Christian.Jacobs@nrc.gov or Nicole Fields, Office of Nuclear Material Safety and Safeguards, telephone: 630-829-9570; email: Nichole.Fields@nrc.gov. Both are staff of the U.S. Nuclear Regulatory Commission, Washington, DC 20555-0001.

SUPPLEMENTARY INFORMATION: On April 3, 2020 (85 FR 18857), the NRC published a direct final rule amending its regulations in part 72 of title 10 of the Code of Federal Regulations by revising the TN Americas LLC NUHOMS® EOS Dry Spent Fuel Storage System listing within the “List of approved spent fuel storage casks” to include Amendment No. 1 to Certificate of Compliance No. 1042. Amendment No. 1 makes the following changes: Adds a new basket type (Type 4) to allow for the loading of intact, damaged, or failed fuel; adds another new basket type (Type 5); accepts fuel assemblies with a minimum two-year cooling time, in selected locations within the basket; and adds the NUHOMS® MATRIX design as an alternative to the EOS horizontal storage module design for the storage of spent fuel. Amendment No. 1 also makes other additional revisions to the certificate of compliance and the technical specifications for consistency and clarity.

In the direct final rule published on April 3, 2020, the NRC stated that if no significant adverse comments were received, the direct final rule would become effective on June 17, 2020. The NRC received and docketed two comments on the companion proposed rule (85 FR 18876; April 3, 2020). Electronic copies of these comments can be obtained from the Federal Rulemaking website https://www.regulations.gov under Docket ID NRC-2019-0224, and are also available in ADAMS under Accession Nos. ML20118C707 and ML20126G364.

The NRC evaluated the comments against the criteria described in the direct final rule and determined that they were not significant and adverse. Specifically, the comments were outside the scope of this rulemaking, did not oppose the rule, or did not propose a change to the rule, such that the rule would be ineffective or unacceptable without incorporation of the change. Therefore, the direct final rule will become effective as scheduled.

Dated: May 26, 2020.
For the Nuclear Regulatory Commission.
Cindy K. Bladey,
Chief, Regulatory Analysis and Rulemaking Support Branch, Division of Rulemaking, Environmental, and Financial Support, Office of Nuclear Material Safety and Safeguards.

[FR Doc. 2020-11691 Filed 6-15-20; 8:45 am]

BILLING CODE 7590-01-P